DEPARTMENT OF JUSTICE

Office of Justice Programs

[OJP (NIJ) Docket No. 1573]

Ballistic-Resistant Body Armor Standard Workshop

AGENCY: National Institute of Justice, DOJ.

ACTION: Notice.

SUMMARY: The National Institute of Justice (NIJ) and the National Institute of Standards and Technology (NIST) are jointly hosting a workshop focused on NIJ Standard-0101.06, Ballistic Resistance of Body Armor, and the discussion is directed toward manufacturers, certification bodies, and test laboratories. This workshop is being held specifically to discuss with interested parties the upcoming revision of this standard and to receive input, comments, and recommendations.

The workshop will be held on Tuesday, November 29, 2011 at NIST, 100 Bureau Drive, Gaithersburg MD, Building 101, Lecture Room A. The workshop will begin with a general session from 9 a.m. to 11 a.m. Following the general session, individual 30-minute breakout session will be offered from 11:30 a.m. to 2:30 a.m. for those interested in the following:

(1) One-on-one conversation with NIJ leadership.

(2) One-on-one discussion with Compliance Testing Program personnel.

(3) One-on-one discussion with personnel leading development of the revised standard.

Time slots for individual breakout sessions may be requested from the registration page indicated below. Additional time slots will be made available if needed to accommodate attendee requests.

Workshop discussions will be documented and published on http://www.justnet.org. Information shared during the individual breakout sessions that NIJ views as beneficial to the broader body armor community will be summarized as part of the workshop notes. Contributors of comments will not be identified in the workshop notes. Each attendee is advised that it is the responsibility of the contributor to protect any information that they may consider proprietary during both the workshop and any individual breakout session in which they may participate.

Space is limited at this workshop, and as a result, only 50 participants will be allowed to register for the general session. Individual time slots will be available on the registration page. We request that each organization limit their representatives to no more than two per organization. Exceptions to this limit may occur, should space allow. Participants planning to attend are responsible for their own travel arrangements.

Participants are strongly encouraged to come prepared to ask questions and to voice suggestions and concerns. Registration information may be found at http://www.justnet.org/Pages/BA-Workshops-Registration-2011.aspx. Registration will close on November 21, 2011.

DATES: The workshop will be held on Tuesday, November 29, 2011, beginning at 9 a.m. The workshop will begin with a general session from 9 a.m. to 11 a.m. Following the general session, individual 30-minute breakout session will be offered from 11:30 a.m. to 2:30 p.m.

ADDRESSES: National Institute of Standards and Technology (NIST), 100 Bureau Drive, Gaithersburg MD, Building 101, Lecture Room A.

FOR FURTHER INFORMATION CONTACT: Casandra Robinson, National Institute of Justice, by telephone at 202-305-2596 [Note: this is not a toll-free telephone number], or by email at casandra.robinson@usdoj.gov.

Kristina Rose,
Deputy Director, National Institute of Justice.

[FR Doc. 2011-29068 Filed 11-9-11; 8:45 am]

BILLING CODE 4410-18-P